DEPARTMENT OF AGRICULTURE

Forest Service

Boundary Establishment for Salmon National Wild and Scenic River, Mt. Hood National Forest and Bureau of Land Management, Salem District, Clackamas, Hood River, and Wasco Counties, Oregon

AGENCY: Forest Service, Agriculture (USDA) and Bureau of Land Management, Department of Interior (USDOI).

ACTION: Notice of availability.

SUMMARY: In accordance with Section 3(b) of the Wild and Scenic Rivers Act, the USDA Forest Service, Washington Office, is transmitting the final boundary of Salmon National Wild and Scenic River to Congress. The Salmon Wild and Scenic River boundary description is available for review on https://www.fs.usda.gov/main/mthood/landmanagement/planning.

ADDRESSES: The Salmon Wild and Scenic River boundary is available for review at the website listed under SUMMARY, to view the documents in person, arrangements should be made in advance by contacting the offices listed under SUPPLEMENTARY INFORMATION.

FOR FURTHER INFORMATION CONTACT: Information may be obtained by contacting John Matthews, Forest Service Regional Land Surveyor, by telephone at 503-808-2420 or via email at john.matthews@usda.gov. Alternatively, contact Michelle Lombardo on the Mt. Hood National Forest at 971-303-2083 or michelle.lombardo@usda.gov; or, Bureau of Land Management Oregon State Office, 1220 SW 3rd Ave., Portland, OR 97204; 503-808-6001.

Individuals who use telecommunication devices for the deaf (TDD) may call the Federal Information Relay Service (FIRS) at 800-877-8339 between 8 a.m. and 8 p.m., Eastern Standard Time, Monday through Friday.

SUPPLEMENTARY INFORMATION: The Salmon Wild and Scenic River boundary is available for review on the website listed under SUMMARY, or in person at the following offices: USDA Forest Service, Yates Building, 14th and Independence Avenues SW, Washington, DC 20024, phone—800-832-1355; Pacific Northwest Regional Office, 1220 SW Third Avenue, Portland, OR 97204, phone—503-808-2468; and Mt Hood National Forest Supervisor's Office, 16400 Champion Way, Sandy, OR 97055; USDOI, Bureau of Land Management National Office, (DOI Library), 1849 C St. NW, Washington, DC 20240, Bureau of Land Management Oregon State Office, 1220 SW 3rd Ave., Portland, OR 97204; 503-808-6001. Please contact the appropriate office prior to arrival.

Persons with disabilities who require alternative means of communication for program information (e.g., Braille, large print, audiotape, American Sign Language, etc.) should contact the responsible Agency or USDA's TARGET Center at 202-720-2600 (voice and TTY) or contact USDA through the Federal Relay Service at 800-877-8339. Additionally, program information may be made available in languages other than English.

Public Law 100-557 of October 28, 1988, designated Salmon, Oregon as a National Wild and Scenic River, to be administered by the Secretary of Agriculture and the Secretary of Interior. As specified by law, the boundary will not be effective until ninety days after Congress receives the transmittal.

Dated: November 7, 2022.
Jacqueline Emanuel,
Acting Associate Deputy Chief, National Forest System.

[FR Doc. 2022-24627 Filed 11-10-22; 8:45 am]

BILLING CODE 3411-15-P